DEPARTMENT OF HOUSING AND URBAN DEVELOPMENT

[Docket No. FR-5544-D-03]

Redelegation of Administrative Authority for Title VI of the Civil Rights Act of 1964

AGENCY: Office of the Assistant Secretary for Fair Housing and Equal Opportunity, HUD.

ACTION: Notice of redelegation of authority.

SUMMARY: In this notice, the Assistant Secretary for Fair Housing and Equal Opportunity (FHEO) supersedes all redelegations of authority under Title VI of the Civil Rights Act of 1964 made within the Office of the Assistant Secretary for FHEO and retains and redelegates this authority to act as the “responsible Department official,” with noted exceptions, to the General Deputy Assistant Secretary, who in turn, retains and redelegates this authority, with noted exceptions to the Deputy Assistant Secretary for Enforcement and Programs, Director of the Office of Enforcement, Director of Systemic Investigations and the FHEO Region Directors.

DATES: Effective Date: November 16, 2011.

FOR FURTHER INFORMATION CONTACT: Sara Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Relay Service at (800) 877-8339.

SUPPLEMENTARY INFORMATION: By separate notice published in today's Federal Register, the Secretary delegates to the Assistant Secretary for FHEO authority pertaining to civil rights statutes. Included in that consolidated delegation is, all authority to act as the “responsible Department official” in all matters relating to the carrying out of the requirements under Title VI of the Civil Rights Act of 1964 (42 U.S.C. 2000d) and its implementing regulations (24 CFR. part 1) except authority pertaining to tenant selection plans under 24 CFR 1.4(b)(2)(ii).

In this redelegation, the Assistant Secretary for FHEO supersedes all previous redelegations and retains and redelegates the authority to act as the “responsible Department official” under Title VI of the 1964 Civil Rights Act, and its implementing regulations, and now retains and redelegates this authority as follows:

Section A. Authority Redelegated

With certain exceptions noted in Section B, the Assistant Secretary for FHEO redelegates to the General Deputy Assistant Secretary for FHEO the authority, under Title VI as provided in 24 CFR part 1, to act as the “responsible Department official” in matters delegated to the Assistant Secretary for FHEO, including the authority to further redelegate this authority. The General Deputy Assistant Secretary for FHEO retains and further redelegates this authority, with noted exceptions in Section B, to the Deputy Assistant Secretary for Enforcement and Programs, Director of the Office of Enforcement, Director of the Office of Systemic Investigations, and the FHEO Region Directors.

Section B. Authority Excepted

The authority redelegated by the Assistant Secretary in this notice does not include the authority to issue or to waive regulations. The authority redelegated by the General Deputy Assistant Secretary for FHEO does not include the authority under 24 CFR 1.8(a) to refer to the Department of Justice (DOJ) unresolved findings of non-compliance or seek other means of compliance, the authority under 24 CFR 1.8(c) to terminate, refuse to grant, or refuse to continue federal financial assistance, or the authority under 24 CFR 1.8(d) to determine that compliance cannot be effectuated by informal means and does not include authority to further redelegate.

Section C. Delegations of Authority Superseded

All prior redelegations of authority under Title VI of the Civil Rights Act of 1964 made by the Assistant Secretary for FHEO are superseded.

Authority: Section 7(d) of the Department of Housing and Urban Development Act (42 U.S.C. 3535(d)).

Dated: November 16, 2011.
John Trasviña,
Assistant Secretary for Fair Housing and Equal Opportunity.
Bryan Greene,
General Deputy Assistant Secretary for Fair Housing and Equal Opportunity.

[FR Doc. 2011-30756 Filed 11-28-11; 8:45 am]

BILLING CODE 4210-67-P